DEPARTMENT OF TRANSPORTATION

Federal Aviation Administration

14 CFR Part 47

[Docket No.: FAA-2024-2765; Amdt. No. 47-36]

RIN 2120-AM08

Electronic Issuance of Aircraft Registration and Dealer Certificates

AGENCY: Federal Aviation Administration (FAA), Department of Transportation (DOT).

ACTION: Final rule.

SUMMARY: This rulemaking amends FAA regulations pertaining to aircraft registration and dealer's registration certificates to facilitate the electronic issuance of these certificates. Electronic issuance of the certificates is more efficient and cost effective than the traditional agency procedure of printing paper registration certificates and mailing them to aircraft owners and dealers.

DATES: Effective January 17, 2025.

FOR FURTHER INFORMATION CONTACT: Wendolynn Hendrick, Aircraft Registration Branch, Federal Aviation Administration, 6500 S MacArthur Blvd., Bldg 29, Oklahoma City, OK 73169; telephone (405) 954-3131; email Wendolynn.R.Hedrick@faa.gov.

SUPPLEMENTARY INFORMATION:

I. Authority for This Rulemaking

The FAA's authority to issue rules on aviation safety is found in Title 49 of the United States Code (49 U.S.C.). Subtitle I, section 106, describes the authority of the FAA Administrator. Subtitle VII, Aviation Programs, describes in more detail the scope of the FAA's authority. This rulemaking is promulgated under the authority described in 49 U.S.C. 106(f), which establishes the authority of the Administrator to promulgate regulations and rules; and 49 U.S.C. 44701(a)(5), which requires the Administrator to promote safe flight of civil aircraft in air commerce by prescribing regulations and setting minimum standards for other practices, methods, and procedures necessary for safety in air commerce and national security.

This rulemaking is also promulgated pursuant to 49 U.S.C. 44101-44106 and 44110-44113, which require aircraft to be registered as a condition of operation and establish the requirements for registration and registration processes. The FAA Civil Aviation Registry is responsible for the registration and recordation of civil aircraft.

The regulations in this rule are within the scope of that authority because they provide for the electronic issuance of aircraft registration and dealer's registration certificates.

II. Immediate Adoption of Final Rule

The notice and comment procedures required under section 553(b) of the Administrative Procedure Act (APA) (5 U.S.C. 553) do not apply to rules of “agency organization, procedure, or practice.” Under this section, an agency may issue a final rule without seeking comment prior to the rulemaking. This rulemaking updates the regulations for aircraft registration and recordation in part 47 of title 14 of the Code of Federal Regulations (14 CFR) to provide for the electronic issuance of aircraft registration and dealer's registration certificates. This rule does not alter the substantive rights or obligations of persons applying for aircraft registration or dealer's certificates, only the procedures by which the FAA issues such certificates. Therefore, the FAA has determined that this rulemaking is a rule of agency procedure or practice for which notice and public comment are not required.

Accordingly, because this is a rule of agency practice or procedure for which notice and public comment is not required, the FAA also finds good cause to waive the delay of the effective date as set forth in 5 U.S.C. 553(d). This rule will be immediately effective upon publication.

III. Background

A. Background and Current Processes

The Civil Aviation Registry, FAA Aircraft Registration Branch (Registry) is responsible for developing, maintaining, and operating the Federal registration and recordation system for United States civil aircraft. Within these functions is the statutory requirement for issuance of aircraft registration and dealer's registration certificates. Currently, the Registry issues certificates in the physical form of a 4” x 9” document printed on card stock. The Registry delivers both aircraft registration certificates and aircraft dealer certificates in paper form. The Registry issues over 5,000 of these certificates per month. These certificates are then delivered as bulk mail to registrants in approximately 7-10 business days.

Due to the long delivery time required by using regular mail, the Registry has had to create special priority processes to meet the demands of a changing fast-paced environment of the aviation industry. Costs involved in this process include printing, supplies, mailing, and manpower needed for sorting and distribution.

B. Developing the CARES System

Section 546 of the FAA Reauthorization Act of 2018 (Pub. L. 115-254) ¹ requires that the FAA complete covered upgrades of the Civil Aviation Registry. The required upgrades include digitization of Registry functions and business operations “by leveraging digital technologies and a broader use of digitized data,” as well as expansion of electronic and remote access to the Registry by members of the public.

¹ 132 Stat. 3376 (Oct. 5, 2018).

Following this Congressional direction, the Registry began exploring alternatives to the legacy system and developed a modernization plan. As of 2022, the Aircraft Registration Branch started implementing a new system of registration and recordation called the Civil Aviation Registry Electronic Services, or “CARES.” The project implements a web-based electronic system that allows the aviation community to securely submit applications, upload documentation, and provide the data necessary for the Registry to perform aircraft registration and airman certification services. For registrants using the system, CARES allows more comprehensive functionality, including a personal portal for users to view their submissions, pay fees online, and digitally sign their applications. Full implementation of the CARES system is expected by late 2025. Ultimately, CARES will become the central and legal repository of all aircraft registration and will fully replace the existing service.

IV. Discussion of the Final Rule

A. Electronic Issuance of Aircraft Registration and Dealer Certificates

The federal statutes that authorize the FAA to issue aircraft registration and dealer's registration certificates do not prescribe the manner in which the certificates are to be issued.² As discussed, the FAA has traditionally issued aircraft registration and dealer's registration certificates, including replacement certificates, in paper form by mail. This process results in costs to the FAA to print the certificates, for supplies and associated labor hours, and for postage costs required to deliver the certificates by mail, which takes approximately 7 to 10 business days to arrive. With the capability to utilize electronic delivery means, such as email, and the future implementation of the CARES system, the FAA has determined that the traditional agency procedure of printing and mailing aircraft registration and dealer's registration certificates should be replaced with the electronic issuance of these certificates.

² See 49 U.S.C. 44103(a) and 44104.

A feature of CARES will allow the Registry to electronically issue and deliver a registration certificate, enabling almost instant delivery of the certificate to the registrant without the normal 7-10 business day wait time for regular mail delivery. Regardless of the timeline of CARES implementation, the Registry will still be able to send electronic certificates by email either through the legacy registration system or through alternate means.

Electronic delivery of certificates will provide a streamlined and expedited delivery service while also reducing the cost and labor burden of mailing for the Registry. However, if a traditional paper certificate is still desired, an applicant may request a paper certificate be issued instead of an electronic certificate.

This final rule effectuates this change in the FAA's procedures for the issuance of aircraft registration and dealer's registration certificates, from traditional paper form to electronic issuance as the primary delivery method.

The FAA emphasizes, however, that the issuance of a registration certificate in electronic form does not, in any way, obviate or affect the need to comply with statutory, regulatory, or other requirements involving aircraft registration or dealer's registration certificates. Notably, in general, a Certificate of Aircraft Registration must still be carried on the aircraft.³

³ See 49 U.S.C. 44103(d); Article 29 of the Convention on International Civil Aviation (the “Chicago Convention”); and 14 CFR part 91, § 91.203(a)(2). The FAA anticipates that the Certificate of Aircraft Registration will be permitted to be carried in electronic or digital format on the aircraft, subject to implementation of security and authentication features within CARES and international standards.

B. Discussion of Affected Regulations

For the reasons discussed in the preceding section, in this final rule the FAA is making several additions and revisions to the regulations in 14 CFR part 47. These amendments are designed to enable and facilitate the FAA's electronic issuance of aircraft registration and dealer's registration certificates. Applicants for these certificates will continue to be able to receive paper certificates upon request.

The FAA is adding language to the end of § 47.1, which sets forth the applicability of part 47. The additional regulatory language expressly provides that part 47 applies to the issuance of a Certificate of Aircraft Registration or a Dealer's Registration Certificate, whether by mail, electronic, or other means.

The FAA is revising § 47.41(b) to address the return or destruction (in the case of § 47.41(b)(3)) of aircraft registration certificates that are issued in electronic form. Currently, § 47.41(b) requires an aircraft registration certificate be returned to the Registry within specified timeframes under the circumstances set forth in paragraphs (b)(1) through (4). For paper certificates, the holder of the certificate must notify the FAA of the reasons for a change in status by completing the reverse side of the certificate and returning it.

The FAA has determined that it is unnecessary and impractical to require the “return” of an electronically issued aircraft registration certificate. The FAA does not expect certificate holders to have to permanently delete the originating email sent by the FAA, or other electronic or digital method used by the FAA, that transmitted the registration certificate. This rule amends § 47.41(b) to maintain only the requirement that the holder of an electronically issued certificate notify the FAA by email or other acceptable means within the existing timeframes, in lieu of completing the reverse side of a paper certificate, when any of the changes specified in § 47.41(a) occurs, regarding the status of the registered aircraft or registered owner. The revised language of § 47.41(b) provides flexibility for holders of electronically issued certificates to notify the FAA of a change in status in the most practicable manner.

This rule also clarifies that only the paper or printed copies of the aircraft registration certificate need to be destroyed when required under § 47.41(b)(3). A requirement to “destroy” an electronic certificate is impractical because the certificate, even if no longer effective, can be repeatedly printed, copied, and electronically duplicated. However, even though an electronic certificate may potentially exist in electronic form indefinitely, the use of an invalid or ineffective certificate remains unlawful. The registration status of civil aircraft is publicly available online and searchable by N-number for those persons who may need to ascertain the aircraft's current registration status.⁴

⁴ https://registry.faa.gov/aircraftinquiry/.

The FAA is also amending § 47.43(b), which currently requires that the holder of an invalid aircraft registration return the registration certificate to the Registry as soon as possible, to clarify that only a certificate issued in paper form must be returned.

Similarly, the FAA is amending § 47.49, which prescribes the procedures for requesting a replacement aircraft registration certificate, to enable the Registry to send replacement certificates electronically.

Finally, the FAA is revising several regulations in part 47 to remove the references to FAA form numbers “AC Form 8050-3” and “AC Form 8050-6,” which are the form numbers designated by the FAA for the Certificate of Aircraft Registration and the Dealer's Aircraft Registration Certificate, respectively. The affected sections of part 47 include the following: §§ 47.1; 47.5(c); 47.7(d); 47.8(c); 47.11(e); 47.13(b) 47.15(a), (f), and (i); 47.16(a); 47.31(a); 47.39; 47.40(b); 47.41(a), and (b); 47.43(b); 47.45; 47.47(a); 47.49(a); 47.61(a); 47.63; 47.65; 47.67; 47.69, and 47.71. These form numbers are associated with the issuance of traditional paper certificates. Removing the form numbers from the regulations will reduce the need to amend the regulations should new aircraft registration forms be introduced in the future. The FAA will benefit from the administrative flexibility provided to more efficiently implement the digitization requirements contained in section 546 of the FAA Reauthorization Act of 2018, among other purposes. In addition, some regulations in part 47 include the form numbers when referring to the registration certificates, while other regulations do not. Removing the form numbers will maintain consistency in the regulatory language used throughout part 47.

V. Regulatory Notices and Analyses

A. Regulatory Evaluation

Executive Orders 12866 (“Regulatory Planning and Review”) and 13563 (“Improving Regulation and Regulatory Review”) require agencies to regulate in the “most cost-effective manner” to make a “reasoned determination that the benefits of the intended regulation justify its costs,” and to develop regulations that “impose the least burden on society.” The Office of Management and Budget has determined that this final rule is not a significant regulatory action as defined in section (3)(f)(1) of Executive Order 12866, as amended by Executive Order 14094, “Modernizing Regulatory Review.”

The rule enables the FAA to distribute registration certificates electronically. It also amends language to ensure that such electronic certificates may be used in a similar fashion to printed certificates. Paper certificates may still be issued upon request. The FAA does not know or estimate how many registrants will opt for a paper certificate.

Prior to this rulemaking, the Registry's practice had been to mail out paper copies of the certificates. The legacy registration system is scheduled to be replaced by the newer CARES system separate from this rulemaking, and the CARES system has the capability to distribute such certificates electronically. However, without this rule, the FAA would continue distributing paper certificates.

The FAA estimates that registrants using the new system will receive their certificates 7 to 10 business days sooner on average under this rule.

The rule will have minimal to no costs, as the infrastructure is scheduled to be deployed with or without the rulemaking. Furthermore, the rule is expected to result in cost savings for the FAA by reducing the postage and printing costs associated with mailing a paper certificate. It may also result in reduced costs for the FAA by reducing the time employees spend handling paper documents and preparing them to mail.

The FAA distributes an average of 60,324 certificates each year. These are printed on card stock and sent out via bulk mail. The FAA estimates the unit cost of printing and mailing each certificate is $0.971.⁵ Therefore, if all future registrants use electronically issued certificates, the cost savings to the FAA may be about $58,575 per year (60,324 certificates multiplied by $0.971).

⁵ Assumes rate for marketing mail flats (bulk). See USPS Price List, Notice 123, effective October 6, 2024: https://pe.usps.com/text/dmm300/Notice123.htm?_gl=1*1e8cdrr*_gcl_au*NDY1OTc0MzQwLjE3MzA4MTUxMjQ.*_ga*MTc5MTgzMzg5Ni4xNzMwODE1MTI0*_ga_3NXP3C8S9V*MTczMTA3NTA3NC4yLjAuMTczMTA3NTA3NC4wLjAuMA..#_c119, accessed on November 6, 2024.

B. Regulatory Flexibility Act

The Regulatory Flexibility Act (RFA), in 5 U.S.C. 603, requires an agency to prepare an initial regulatory flexibility analysis describing impacts on small entities whenever 5 U.S.C. 553 or any other law requires an agency to publish a general notice of proposed rulemaking for any proposed rule. Similarly, 5 U.S.C. 604 requires an agency to prepare a final regulatory flexibility analysis when an agency issues a final rule under 5 U.S.C. 553 after that section or any other law requires publication of a general notice of proposed rulemaking. The FAA concludes that this is a rule of agency procedure or practice for which notice and comment are not required. As 5 U.S.C. 553 does not require notice and comment in this situation, 5 U.S.C. 603 and 604 similarly do not require regulatory flexibility analyses.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this rule and determined that it ensures the safety of the American public and does not exclude imports that meet this objective. As a result, the FAA does not consider this rule as creating an unnecessary obstacle to foreign commerce.

D. Unfunded Mandates Assessment

The Unfunded Mandates Reform Act of 1995 (2 U.S.C. 1531-1538) governs the issuance of Federal regulations that require unfunded mandates. An unfunded mandate is a regulation that requires a State, local, or Tribal government or the private sector to incur direct costs without the Federal Government having first provided the funds to pay those costs. The FAA determined that this final rule will not result in the expenditure of $183 million or more by State, local, or Tribal governments, in the aggregate, or the private sector, in any one year.

E. Paperwork Reduction Act

The Paperwork Reduction Act of 1995 (44 U.S.C. 3507(d)) requires that the FAA consider the impact of paperwork and other information collection burdens imposed on the public. The information collection for aircraft registration and recordation is approved under OMB Control Number 2120-0042. The FAA has determined that there will be no new requirement for information collection associated with this final rule.

F. International Compatibility

In keeping with U.S. obligations under the Convention on International Civil Aviation, it is FAA policy to conform to International Civil Aviation Organization (ICAO) Standards and Recommended Practices to the maximum extent practicable. The FAA has determined that these regulations, as amended, do not conflict with the ICAO Standards and Recommended Practices pertaining to the issuance of a certificate of registration.

G. Environmental Analysis

FAA Order 1050.1F identifies FAA actions that are categorically excluded from preparation of an environmental assessment or environmental impact statement under the National Environmental Policy Act (NEPA) in the absence of extraordinary circumstances. The FAA has determined this rulemaking action qualifies for the categorical exclusion identified in paragraph 5-6.6f for regulations and involves no extraordinary circumstances.

VI. Executive Order Determinations

A. Executive Order 13132, Federalism

The FAA has analyzed this final rule under the principles and criteria of Executive Order 13132, Federalism. The FAA has determined that this action will not have a substantial direct effect on the States, or the relationship between the Federal Government and the States, or on the distribution of power and responsibilities among the various levels of government, and, therefore, will not have federalism implications.

B. Executive Order 13175, Consultation and Coordination With Indian Tribal Governments

Consistent with Executive Order 13175, Consultation and Coordination with Indian Tribal Governments,⁶ and FAA Order 1210.20, American Indian and Alaska Native Tribal Consultation Policy and Procedures,⁷ the FAA ensures that Federally Recognized Tribes (Tribes) are given the opportunity to provide meaningful and timely input regarding proposed Federal actions that have the potential to have substantial direct effects on one or more Indian Tribes, on the relationship between the Federal Government and Indian Tribes, or on the distribution of power and responsibilities between the Federal Government and Indian Tribes; or to affect uniquely or significantly their respective Tribes. At this point, the FAA has not identified any unique or significant effects, environmental or otherwise, on Tribes resulting from this final rule.

⁶ 65 FR 67249 (Nov. 6, 2000).

⁷ FAA Order No. 1210.20 (Jan. 28, 2004), available at www.faa.gov/documentLibrary/media/1210.pdf.

C. Executive Order 13211, Regulations That Significantly Affect Energy Supply, Distribution, or Use

The FAA analyzed this final rule under Executive Order 13211, Actions Concerning Regulations that Significantly Affect Energy Supply, Distribution, or Use. The FAA has determined that it is not a “significant energy action” under the Executive order and is not likely to have a significant adverse effect on the supply, distribution, or use of energy.

D. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609 and has determined that this action will have no effect on international regulatory cooperation.

VII. Additional Information

A. Electronic Access and Filing

A copy of this final rule and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.govinfo.gov. A copy may also be found on the FAA's Regulations and Policies website at www.faa.gov/regulations_policies.

Copies may also be obtained by sending a request to the Federal Aviation Administration, Office of Rulemaking, ARM-1, 800 Independence Avenue SW, Washington, DC 20591, or by calling (202) 267-9677. Requesters must identify the docket or notice number of this rulemaking.

All documents the FAA considered in developing this final rule, including economic analyses and technical reports, may be accessed in the electronic docket for this rulemaking.

B. Small Business Regulatory Enforcement Fairness Act

The Small Business Regulatory Enforcement Fairness Act (SBREFA) of 1996 requires the FAA to comply with small entity requests for information or advice about compliance with statutes and regulations within its jurisdiction. A small entity with questions regarding this document may contact its local FAA official or the person listed under the FOR FURTHER INFORMATION CONTACT heading at the beginning of the preamble. To find out more about SBREFA on the internet, visit www.faa.gov/regulations_policies/rulemaking/sbre_act/.

List of Subjects in 14 CFR Part 47

Aircraft, Reporting and Recordkeeping Requirements.

The Amendment

For the reasons discussed in the preamble, the Federal Aviation Administration amends chapter I of title 14, Code of Federal Regulations, as follows:

PART 47—Aircraft Registration

1. The authority citation for part 47 continues to read as follows:

Authority: 4 U.S.T. 1830; Public Law 115-254, Public Law 108-297, 118 Stat. 1095 (49 U.S.C. 40101 note, 49 U.S.C. 44101 note); 49 U.S.C. 106(f), 40113-40114, 44101-44108, 44110-44113, 44701, 44703-44704, 44713, 45302, 46104, 46301.

2. Revise § 47.1 to read as follows:

§ 47.1 Applicability.

This part prescribes the requirements for registering aircraft under 49 U.S.C. 44101-44104. Subpart B applies to each applicant for, and holder of, a Certificate of Aircraft Registration. Subpart C applies to each applicant for, and holder of, a Dealer's Aircraft Registration Certificate. This part applies to the issuance by the FAA of such certificates, whether by mail, electronic, or other means.

3. Amend § 47.5 by revising paragraph (c) to read as follows:

§ 47.5 Applicants.

* * * * *

(c) 49 U.S.C. 44103(c) provides that registration is not evidence of ownership of aircraft in any proceeding in which ownership by a particular person is in issue. The FAA does not issue any certificate of ownership or endorse any information with respect to ownership on a Certificate of Aircraft Registration. The FAA issues a Certificate of Aircraft Registration to the person who appears to be the owner on the basis of the evidence of ownership submitted pursuant to § 47.11 with the Aircraft Registration Application, or recorded at the Registry.

* * * * *

4. Amend § 47.7 by revising paragraph (d) introductory text to read as follows:

§ 47.7 United States citizens and resident aliens.

* * * * *

(d) Partnerships. A partnership may apply for a Certificate of Aircraft Registration under 49 U.S.C. 44102 only if each partner, whether a general or limited partner, is an individual who is a citizen of the United States. Nothing in this section makes ineligible for registration an aircraft that is not owned as a partnership asset but is co-owned by—

* * * * *

5. Amend § 47.8 by revising paragraph (c) to read as follows:

§ 47.8 Voting trusts.

* * * * *

(c) If the voting trust terminates or is modified, and the result is less than 75 percent control of the voting interest in the corporation by citizens of the United States, a loss of citizenship of the holder of the Certificate of Aircraft Registration occurs, and § 47.41(a)(3) of this part applies.

* * * * *

6. Amend § 47.11 by revising paragraphs (e) and (f) to read as follows:

§ 47.11 Evidence of ownership.

* * * * *

(e) The executor or administrator of the estate of the deceased former owner of an aircraft must submit a certified copy of the letters testamentary or letters of administration appointing him executor or administrator. The Certificate of Aircraft Registration is issued to the applicant as executor or administrator.

(f) The buyer of an aircraft from the estate of a deceased former owner must submit both a bill of sale, signed for the estate by the executor or administrator, and a certified copy of the letters testamentary or letters of administration. When no executor or administrator has been or is to be appointed, the applicant must submit both a bill of sale, signed by the heir-at-law of the deceased former owner, and an affidavit of the heir-at-law stating that no application for appointment of an executor or administrator has been made, that so far as he can determine none will be made, and that he is the person entitled to, or having the right to dispose of, the aircraft under applicable local law.

* * * * *

7. Amend § 47.13 by revising paragraph (b) to read as follows:

§ 47.13 Signatures and instruments made by representatives.

* * * * *

(b) When one or more persons doing business under a trade name submits an Aircraft Registration Application, a document submitted as supporting evidence under this part, or a request for cancellation of a Certificate of Aircraft Registration, the application, document, or request must be signed by, or on behalf of, each person who shares title to the aircraft.

* * * * *

8. Amend § 47.15 by revising paragraph (a) introductory text, paragraph (f), and paragraph (i)(2) to read as follows:

§ 47.15 Registration number.

(a) Number required. An applicant for aircraft registration must place a U.S. registration number (registration mark) on the Aircraft Registration Application, AC Form 8050-1, and on any evidence submitted with the application. There is no charge for the assignment of numbers provided in this paragraph. This paragraph does not apply to an aircraft manufacturer who applies for a group of U.S. registration numbers under paragraph (c) of this section; a person who applies for a special registration number under paragraphs (d) through (f) of this section; or a holder of a Dealer's Aircraft Registration Certificate who applies for a temporary registration number under § 47.16.

* * * * *

(f) The Registry authorizes a special registration number change on the Assignment of Special Registration Numbers, AC Form 8050-64. The authorization expires one year from the date the Registry issues an Assignment of Special Registration Numbers unless the special registration number is permanently placed on the aircraft. Within five days after the special registration number is placed on the aircraft, the owner must complete and sign the Assignment of Special Registration Numbers, state the date the number was placed on the aircraft, and return the original form to the Registry. The duplicate of the Assignment of Special Registration Numbers and the present Certificate of Aircraft Registration must be carried in the aircraft as temporary authority to operate it. This temporary authority is valid until the date the owner receives the revised Certificate of Aircraft Registration showing the new registration number, but in no case is it valid for more than 120 days from the date the number is placed on the aircraft.

* * * * *

(i) * * *

(2) Following the expiration date shown on the Dealer's Aircraft Registration Certificate, for any aircraft registered under Subpart C of this part, when the certificate has not been renewed, and the owner has not applied for registration in accordance with § 47.31; or

* * * * *

9. Amend § 47.16 by revising paragraph (a) to read as follows:

§ 47.16 Temporary registration numbers.

(a) Temporary registration numbers are issued by the FAA to manufacturers, distributors, and dealers who are holders of Dealer's Aircraft Registration Certificates for temporary display on aircraft during flight allowed under Subpart C of this part.

* * * * *

10. Amend § 47.31 by revising paragraph (a) introductory text to read as follows:

§ 47.31 Application.

(a) Each applicant for a Certificate of Aircraft Registration must submit the following to the Registry—

* * * * *

11. Revise § 47.39 to read as follows:

§ 47.39 Effective date of registration.

An aircraft is registered on the date the Registry determines that the submissions meet the requirements of this part. The effective date of registration is shown as the date of issue on the Certificate of Aircraft Registration.

12. Amend § 47.40 by revising paragraph (b) to read as follows:

§ 47.40 Registration expiration and renewal.

* * * * *

(b) Renewal. Each holder of a Certificate of Aircraft Registration containing an expiration date may apply for renewal of a Certificate of Aircraft Registration by submitting an Aircraft Registration Renewal Application, AC Form 8050-1B, and the fee required by § 47.17 during the six months preceding the expiration date for the Certificate of Aircraft Registration.

* * * * *

13. Amend § 47.41 by revising paragraph (a) introductory text, paragraph (b) introductory text, and paragraph (b)(3) to read as follows:

§ 47.41 Duration and return of certificate.

(a) Each Certificate of Aircraft Registration issued by the FAA under this subpart is effective, unless registration has ended by reason of having been revoked, canceled, expired, or the ownership is transferred, until the date upon which one of the following events occurs:

* * * * *

(b) The FAA must be given notice of, and the reason(s) for, any change in status of the registered aircraft or registered owner specified under paragraph (a) of this section. In the case of an electronically issued Certificate of Aircraft Registration, notice must be provided by email or other means acceptable to the Administrator, and, in the case of a certificate issued in paper form, the certificate, with the reverse side completed, must be returned to the Registry—

* * * * *

(3) Within 21 days of the termination of the registration, by the holder of the Certificate of Aircraft Registration in all other cases mentioned in paragraph (a) of this section, except in the case of expired certificates, the holder must destroy the expired certificate, if in paper or printed form.

* * * * *

14. Amend § 47.43 by revising paragraph (b) to read as follows:

§ 47.43 Invalid registration.

* * * * *

(b) If the registration of an aircraft is invalid under paragraph (a) of this section, the holder of the invalid Certificate of Aircraft Registration, if issued in paper form, must return it as soon as possible to the Registry.

15. Revise § 47.45 to read as follows:

§ 47.45 Change of address.

Within 30 days after any change in a registered owner's mailing address, the registered owner must notify the Registry in writing of the change of address. If a post office box or mailing drop is used for mailing purposes, the registered owner also must provide that owner's physical address or location. Upon acceptance, the Registry will issue, without charge, a revised Certificate of Aircraft Registration reflecting the new mailing address. When a post office box or mailing drop is used for mailing purposes, and the registered owner's physical address or location changes, the registered owner must notify the Registry in writing of the new address or location within 30 days.

16. Amend § 47.47 by revising paragraph (a) introductory text to read as follows:

§ 47.47 Cancellation of Certificate for export purpose.

(a) The holder of a Certificate of Aircraft Registration or the holder of an irrevocable deregistration and export request authorization recognized under the Cape Town Treaty and filed with the FAA who wishes to cancel the Certificate of Aircraft Registration for the purpose of export must submit to the Registry—

* * * * *

17. Revise § 47.49 to read as follows:

§ 47.49 Replacement of Certificate.

(a) If the original Certificate of Aircraft Registration is lost, stolen, or mutilated, the registered owner may submit to the Registry a written request that states the reason a replacement certificate is needed and the fee required by § 47.17. The Registry will send a replacement certificate to the registered owner by email or other electronic or digital means, or, if such means are unavailable, to the registered owner's mailing address or to another mailing address if requested in writing by the registered owner.

(b) The registered owner may request a temporary Certificate of Aircraft Registration pending receipt of a replacement certificate. The Registry issues a temporary Certificate of Aircraft Registration that must be carried in the aircraft until receipt of the replacement certificate.

18. Amend § 47.61 by revising paragraph (a) introductory text to read as follows:

§ 47.61 Dealer's Aircraft Registration Certificates.

(a) The FAA issues a Dealer's Aircraft Registration Certificate to U.S. manufacturers and dealers to—

* * * * *

19. Amend § 47.63 by revising paragraph (a) introductory text to read as follows:

§ 47.63 Application.

(a) A manufacturer or dealer that wishes to obtain a Dealer's Aircraft Registration Certificate must submit—

* * * * *

20. Revise § 47.65 to read as follows:

§ 47.65 Eligibility.

To be eligible for a Dealer's Aircraft Registration Certificate, the applicant must have an established place of business in the United States, must be substantially engaged in manufacturing or selling aircraft, and must be a citizen of the United States, as defined by 49 U.S.C. 40102 (a)(15).

21. Revise § 47.67 to read as follows:

§ 47.67 Evidence of ownership.

Before using a Dealer's Aircraft Registration Certificate for operating the aircraft, the holder of the certificate (other than a manufacturer) must send to the Registry evidence of ownership under § 47.11. An Aircraft Bill of Sale, AC Form 8050-2, or its equivalent, may be used as evidence of ownership. There is no recording fee.

22. Amend § 47.69 by revising the introductory text to read as follows:

§ 47.69 Limitations.

A Dealer's Aircraft Registration Certificate is valid only in connection with use of aircraft—

* * * * *

23. Amend § 47.71 by revising paragraph (a) to read as follows:

§ 47.71 Duration of Certificate; change of status.

(a) A Dealer's Aircraft Registration Certificate expires 1 year after the date it is issued. Each additional certificate expires on the date the original certificate expires.

* * * * *

Issued under authority provided by 49 U.S.C. 106(f), 44701(a), and 44101-44106 in Washington, DC
Michael Gordon Whitaker,
Administrator.

[FR Doc. 2025-00764 Filed 1-16-25; 8:45 am]

BILLING CODE 4910-13-P